DEPARTMENT OF HEALTH AND HUMAN SERVICES

Administration for Community Living

The Eldercare Locator

SUMMARY: The Administration for Community Living (ACL) is announcing the application deadline and supplemental funding for the Eldercare Locator program. The Eldercare Locator program helps older adults and their families and caregivers find their way through the maze of services for older adults by linking to a trustworthy network of national, State, Tribal and community organizations and services through a nationally recognized toll-free number. The Eldercare Locator also provides older adults and caregivers who require more in depth support the opportunity to speak with highly trained eldercare consultants who can better triage the situation. The purpose of this notice is to award supplemental funds to the National Association of Area Agencies on Aging to provide for additional eldercare consultants.

Program Name: Eldercare Locator.

Award Amount: $250,000.

Project Period: 6/1/2013 to 5/31/2018.

Award Type: Cooperative Agreement.

Statutory Authority: The statutory authority for grants under this notice is contained in Title IV of the Older Americans Act (OAA) (42 U.S.C. 3032), as amended by the Older Americans Act Amendments of 2006. Statutory authority specifically for the Eldercare Locator is contained in Title II of the Older Americans Act (202(a)(21).

Catalog of Federal Domestic Assistance (CFDA) Number: 93.048, Discretionary Projects.

DATES:

• Application Submission deadline: August 21, 2014.

• The supplemental funds will be issued no later than September 30, 2014.

I. Program Description

The Administration on Aging, an agency of the U.S. Administration for Community Living, has been funding the Eldercare Locator (the Locator) since 1991. The Eldercare Locator links older persons and their caregivers to resources through a nationally recognized toll-free number, 1-800-677-1116 and Web site (www.eldercare.gov). Since inception, over 2.7 million older adults, caregivers, professionals and others have used the Locator toll-free number to find resources for older adults in any U.S. community. The goal is to provide users with the information and resources they need that will help older persons live independently and safely in their homes and communities for as long as possible.

The Eldercare Locator call center utilizes live agents to help callers find their way through the maze of services for older adults by linking to a trustworthy network of national, State, Tribal and community organizations and services. In 2011, an additional feature was added to assist older adults and caregivers who require more in depth support the opportunity to speak with highly trained eldercare consultants who can better triage the situation. In addition written materials are provided to further educate callers and users of the Web site on a variety of topics such as fall prevention, housing, and advanced care planning.

II. Justification for the Supplemental Funding

Since 2011, the demand for eldercare consultant services has increased dramatically, doubling in the last year. During the last 6 months, 40% of the calls escalated to eldercare consultants were individuals calling with multiple and very complex issues. Because of the complexity, eldercare consultant calls are about 5 minutes longer than a regular information specialist call which averages about 5 minutes. There is a need to increase the number of eldercare consultants to handle this higher demand for intense consultation. In addition, there is a need to increase the availability of resource materials available to supplement and educate the callers about complex eldercare issues.

III. Eligible Applicants: Current Grantee

Evaluation Criteria: ACL will use the following evaluation criteria to ensure that proposed activities are within the approved scope and budget of the grant:

Approach

Is the purpose of the funding clearly described? Does it reflect a coherent and feasible approach for successfully addressing the identified problem and achieving the identified outcome(s)? Is the project work plan clear and comprehensive? Does it include sensible and feasible timeframes for the accomplishment of tasks presented? Does the work plan include specific objectives and tasks that are linked to measurable outcomes?

Budget

Is the budget justified with respect to the adequacy and reasonableness of resources requested? Are budget line items clearly delineated and consistent with work plan objectives?

Project Impact

Are the expected project benefits/results clear, realistic, and consistent with the objectives and purpose of the project? In addition, information previously provided in semi-annual reports will be considered in evaluating the proposal.

IV. Application and Submission Requirements

A. SF 424—Application for Federal Assistance.

B. SF 424A—Budget Information.

C. Separate Budget Narrative/Justification.

D. SF 424B—Assurances. Note: Be sure to complete this form according to instructions and have it signed and dated by the authorized representative (see item 18d of the SF 424).

E. Lobbying Certification.

F. Program narrative—no more than 4- pages.

G. Work Plan.

H. Grantee will be required to access the application kit in www.GrantSolutions.gov to submit all materials for this application.

V. Application Review Information

Application will be reviewed by Federal staff.

VI. Agency Contact

For further information or comments regarding this program expansion supplement, contact Sherri Clark, U.S. Department of Health and Human Services, Administration for Community Living, Office of External Affairs, One Massachusetts Avenue NW., Washington, DC 20001; telephone (202) 357-3506; email sherri.clark@acl.hhs.gov.

Dated: July 22, 2014.
Kathy Greenlee,
Administrator and Assistant Secretary for Aging.

[FR Doc. 2014-17585 Filed 7-24-14; 8:45 am]

BILLING CODE 4154-01-P